POSTAL REGULATORY COMMISSION

[Docket No. MC2019-203; Order No. 5242]

Mail Classification Schedule

AGENCY: Postal Regulatory Commission.

ACTION: Notice.

SUMMARY: The Commission is acknowledging a recent Postal Service filing of its intention to clarify that it may alter the age requirements for Adult Signature Services pursuant to a Negotiated Service Agreement. This document informs the public of the filing, invites public comment, and takes other administrative steps.

DATES: Comments are due: September 30, 2019.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Notice of Commission Action

IV. Ordering Paragraphs

I. Introduction

On September 20, 2019, the Postal Service filed a notice of classification change pursuant to Commission rule 39 CFR 3020.90.¹ The Postal Service seeks to clarify that it may alter the age requirements for Adult Signature Services pursuant to a Negotiated Service Agreement (NSA). Notice at 1. The changes are intended to take effect on October 7, 2019. Id.

¹ USPS Notice of Minor Correction to Competitive Ancillary Services, September 20, 2019 (Notice).

II. Summary of Changes

The Postal Service proposes an addition to the Mail Classification Schedule explicitly stating that it may change the age requirements for Adult Signature Services pursuant to a NSA. Id. The current Adult Signature Service requires the signature of a person 21 or older at the recipient's address for Adult Signature Required delivery and the signature of the addressee 21 years of age or older for Adult Signature Restricted delivery. Id. Attachment 1.

The Postal Service maintains that the proposed change satisfies the requirements of 39 CFR 3020.90 because it does not alter the age restrictions of Adult Signature Services, but simply facilitates verifying ages other than 21 pursuant to an NSA. Notice at 1. The change will not affect the existing prices or cost coverage for the Adult Signature Services product. Id.

III. Notice of Commission Action

Pursuant to 39 CFR 3020.91, the Commission has posted the Notice on its website and invites comments on whether the Postal Service's filings are consistent with 39 CFR 3020, subpart E. Comments are due no later than September 30, 2019. These filings can be accessed via the Commission's website (http://www.prc.gov).

The Commission appoints Erica Barker to serve as an officer of the Commission (Public Representative) to represent the interests of the general public in this proceeding.

IV. Ordering Paragraphs

It is ordered:

1. The Commission establishes Docket No. MC2019-203 to consider matters raised by the Notice.

2. Comments by interested persons are due by September 30, 2019.

3. Pursuant to 39 U.S.C. 505, Erica Barker is appointed to serve as an officer of the Commission (Public Representative) to represent the interests of the general public in this proceeding.

4. The Commission directs the Secretary of the Commission to arrange for prompt publication of this notice in the Federal Register.

By the Commission.
Darcie S. Tokioka,
Acting Secretary.

[FR Doc. 2019-20917 Filed 9-25-19; 8:45 am]

BILLING CODE 7710-FW-P